DEPARTMENT OF TRANSPORTATION

Federal Aviation Administration

1st Meeting—Special Committee 221—Aircraft Secondary Barriers

AGENCY: Federal Aviation Administration (FAA), DOT.

ACTION: Notice of RTCA Special Committee 221 meeting.

SUMMARY: The FAA is issuing this notice to advise the public of a meeting of RTCA Special Committee 221: Aircraft Secondary Barriers.

DATES: The meeting will be held March 3-4, 2009 from 9 a.m. to 5 p.m.

ADDRESSES: The meeting will be held at RTCA, Inc., MacIntosh-NBAA and Hilton-ATA Rooms, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 221, Aircraft Secondary Barriers. The agenda will include:

• Opening Plenary (Welcome/Introductions/Administrative Remarks, Agenda Overview, RTCA Overview).

• Approval of Summary of the First Meeting held December 3-4, 2008, RTCA Paper No. 031-09/SC221-002.

• Terms of Reference Review/Approval.

• Presentation, Discussion, Recommendations.

• Working Group 1, TOR—Ken Dunlap.

• Working Group Reports.

• Working Group 2, SB Target—Mike Fredericks.

• Working Group 3, IPB MOPS—Chuck Stewart.

• Working Group 4, TPB, BC MOPS—Scott Graham.

• Discussion of Working Group reports: re-allocation of groups, capture learning points, discuss additional or follow-on goals.

• Other Business: New Working Groups?

• Closing Plenary (Establish Agenda for Next Meeting, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 9, 2009.
Francisco Estrada C.,
RTCA Advisory Committee.

[FR Doc. E9-3188 Filed 2-13-09; 8:45 am]

BILLING CODE 4910-13-P